DEPARTMENT OF THE INTERIOR

Fish and Wildlife Service

Endangered and Threatened Species Permit Applications

AGENCY: Fish and Wildlife Service, Interior.

ACTION: Notice of receipt of applications.

SUMMARY: The following applicants have applied for permits to conduct certain activities with endangered species. This notice is provided pursuant to section 10(c) of the Endangered Species Act of 1973, as amended (16 U.S.C. 1531, et seq.).

DATES: Written data or comments should be submitted to the Regional Director, U.S. Fish and Wildlife Service, Ecological Services, 1 Federal Drive, Fort Snelling, Minnesota 55111-4056, and must be received on or before May 5, 2004.

FOR FURTHER INFORMATION CONTACT: Mr. Peter Fasbender, (612) 713-5343.

SUPPLEMENTARY INFORMATION: Permit Number: TE083429.

Applicant: Southwest Michigan Land Conservancy, Portage, Michigan.

The applicant requests a permit to take the Michell's satyr butterfly (Neonympha mitchellii mitchellii) in Michigan. The scientific research is aimed at enhancement of survival of the species in the wild.

Permit Number: TE083469.

Applicant: National Mississippi River Museum, Dubuque, Iowa.

The applicant requests a permit to take (hold and propagate) the Higgins' eye pearlymussel (Lampsilis higginsi) in Iowa. The scientific research is aimed at enhancement of survival of the species in the wild.

Permit Number: TE083562.

Applicant: Minnesota Pollution Control Agency, St. Paul, Minnesota.

The applicant requests a permit to take (collect) the Topeka shiner (Notropis topeka) throughout Minnesota. The scientific research is aimed at enhancement of survival of the species in the wild.

Permit Number: TE085016.

Applicant: Merrill B. Tawse, Lucas, Ohio.

The applicant requests a permit to take (trap) the Indiana bat (Myotis sodalis) throughout Indiana, Kentucky, Ohio, Pennsylvania, and West Virginia. The scientific research is aimed at enhancement of survival of the species in the wild.

Dated: March 23, 2004.
James T. Leach,
Acting Assistant Regional Director, Ecological Services, Region 3, Fort Snelling, Minnesota.

[FR Doc. 04-7617 Filed 4-2-04; 8:45 am]

BILLING CODE 4310-55-P